DEPARTMENT OF ENERGY

Federal Energy Regulatory Commission

[Docket Nos. EL16-101-000]

Tri-State Generation and Transmission Association, Inc.; Notice of Petition for Partial Waiver

July 20, 2016.

Take notice that on July 15, 2016, pursuant to section 292.402 of the Federal Energy Regulatory Commission's (Commission) Rules of Practice and Procedure,¹ Tri-State Generation and Transmission Association, Inc. (Tri-State) on behalf of itself and its electric distribution cooperative member-owners (collectively, the Participating Members),² filed a petition for partial waiver of certain obligations imposed on Tri-State and the Participating Members under Sections 292.303(a) and 292.303(b) of the Commission's regulations, all as more fully explained in the petition.

¹ 18 CFR 292.402.

² Tri-State's member owners joining in this petition are Big Horn Rural Electric Company, Carbon Power and Light, Inc., Central New Mexico Electric Cooperative, Inc., Chimney Rock Public Power District, Continental Divide Electric Cooperative, Inc., Garland Light and Power Company, High Plains Power, Inc., High West Energy, Inc., Highline Electric Association, Jemez Mountains Electric Cooperative, Inc., K.C. Electric Association, Inc., The Midwest Electric Cooperative Corporation, Mora-San Miguel Electric Cooperative, Inc., Morgan County Rural Electric Association, Mountain Parks Electric, Inc., Mountain View Electric Association, Inc., Niobrara Electric Association, Inc., Northern Rio Arriba Electric Cooperative, Inc., Otero County Electric Cooperative, Inc., Panhandle Rural Electric Membership Association, Roosevelt Public Power District, San Luis Valley Rural Electric Cooperative, Inc., Sierra Electric Cooperative, Inc., Socorm Electric Cooperative, Inc., Southeast Colorado Power Association, Southwestern Electric Cooperative, Inc., Springer Electric Cooperative, Inc., Wheatland Rural Electric Association, Inc., Wyrulec Company, and Y-W Electric Association, Inc.

Any person desiring to intervene or to protest this filing must file in accordance with Rules 211 and 214 of the Commission's Rules of Practice and Procedure (18 CFR 385.211and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on August 5, 2016.

Dated: July 20, 2016.
Kimberly D. Bose,
Secretary.

[FR Doc. 2016-17858 Filed 7-27-16; 8:45 am]

BILLING CODE 6717-01-P